DEPARTMENT OF AGRICULTURE

Natural Resources Conservation Service

[Docket No. NRCS-2017-0004]

South Branch Potomac River Subwatershed of the Potomac River Watershed, Highland County, Virginia and Pendleton and Grant Counties, West Virginia

AGENCY: Natural Resources Conservation Service, Department of Agriculture.

ACTION: Notice of intent to deauthorize Federal funding.

SUMMARY: Pursuant to the Flood Control Act and the Natural Resources Conservation Service (NRCS) Guidelines (7 CFR part 622), NRCS gives notice of the intent to deauthorize Federal funding for the South Branch Potomac River Subwatershed of the Potomac River Watershed project, Highland County, Virginia and Pendleton and Grant Counties, West Virginia.

DATES: Interested persons are invited to submit comments within 60 days of this notice being published in the Federal Register.

ADDRESSES: Comments submitted in response to this notice should be sent to either John Bricker, VA State Conservationist, 1606 Santa Rosa Road, Suite 209, Richmond, Virginia 23229. Telephone: (804) 287-1691 or email: Jack.Bricker@va.usda.gov or Louis Aspey, WV State Conservationist, 1550 Earl L. Core Road, Suite 200, Morgantown, West Virginia 26505. Telephone: (304) 284-7540 or email: Louis.Aspey@wv.usda.gov.

FOR FURTHER INFORMATION CONTACT: For specific questions about this notice, please contact Wade Biddix, (804) 287-1675 or Wade.Biddix@va.usda.gov.

SUPPLEMENTARY INFORMATION: A determination has been made by John Bricker, NRCS State Conservationist in Virginia, and Louis Aspey, NRCS State Conservationist in West Virginia, that the proposed works of improvement for the South Branch Potomac River Subwatershed of the Potomac River Watershed project will not be installed. The sponsoring local organizations have concurred in this determination and agree that Federal funding should be deauthorized for the project. Information regarding this determination may be obtained from John Bricker, NRCS State Conservationist in Virginia, and Louis Aspey, NRCS State Conservationist in West Virginia, at the above addresses and telephone numbers.

No administrative action on implementation of the proposed deauthorization will be taken until 60 days after the date of this publication in the Federal Register.

(Catalog of Federal Domestic Assistance Program No. 10.904, Watershed Protection and Flood Prevention. Executive Order 12372 regarding State and local clearinghouse review of Federal and federally assisted programs and project is applicable)

Dated: December 21, 2017.
John A. Bricker,
VA State Conservationist.
Dated: December 14, 2017.
Louis Aspey,
WV State Conservationist.

[FR Doc. 2018-02944 Filed 2-13-18; 8:45 am]

BILLING CODE 3410-16-P